DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236 as detailed below.

Docket Number FRA-2005-20383

Applicant: Maine Eastern Railroad, Mr. Jonathan F. Shute, General Manager, 685 Sligo Road, North Yarmouth, Maine 04097.

The Maine Eastern Railroad (MERR) seeks relief from the requirements of the Rules, Standard and Instructions, Title 49 CFR, part 236, section 236.312, on the Carlton Bridge, at Bath, Maine, milepost 30.0, on the Rockland Branch, to the extent that MERR be permitted to detect displacement of the bridge locking members, when displaced more than two inches from their proper position, instead of the existing one inch requirement.

Applicant's justification for relief: The bridge and interlocking have recently been upgraded with new span lock rams, new rail seat detectors, and a new signal interlocking. It is not possible to maintain the one inch span lock retraction limit in cold temperature extremes, due to the contraction of the steel members in the span itself. The contraction of the steel affects the moveable span's west end span lock adjustment, which requires a maintainer to travel to the bridge piers to seasonally adjust both west end span lock circuit controller boxes to a setting of two inches to compensate for the contraction, and then again later in the season he must return the settings to one inch. This often places the maintainer at a safety risk due to icy conditions. The new power driven span lock rams are mechanically engaged for a distance of two feet to lock the moveable span down, and a change in the ram retraction limit from one to two inches clearly causes no safety risk.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on March 29, 2005.
Grady C. Cothen, Jr.,
Deputy Associate Administrator for Safety Standards and Program Development.

[FR Doc. 05-6651 Filed 4-1-05; 8:45 am]

BILLING CODE 4910-06-P